DEPARTMENT OF ENERGY

Federal Energy Regulatory Commission

[Docket No. Ic21-34-000]

Commission Information Collection Activities (Ferc-500 and Ferc-505); Consolidated Comment Request; Extension

AGENCY: Federal Energy Regulatory Commission, DOE.

ACTION: Notice of information collections and request for comments.

SUMMARY: In compliance with the requirements of the Paperwork Reduction Act of 1995, the Federal Energy Regulatory Commission (Commission or FERC) is soliciting public comment on the currently approved information collections, FERC-500 (Application for License/Relicense for Water Projects with More than 10 Megawatt (MW) Capacity); and FERC-505 (Application for Small Hydropower Projects and Conduit Facilities including License/Relicense, Exemption, and Qualifying Conduit Facility Determinations).

DATES: Comments on the collections of information are due December 27, 2021.

ADDRESSES: You may provide your comments (identified by Docket No. IC21-34-000) on FERC-500 and/or FERC-505 by one of the following methods:

• Electronic Filing: http://www.ferc.gov (preferred method) Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, Secretary of the Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, or by telephone at (202) 502-8663.

SUPPLEMENTARY INFORMATION: Titles: FERC-500 (Application for License/Relicense for Water Projects with More than 10 Megawatt (MW) Capacity) and FERC-505 (Application for Small Hydropower Projects and Conduit Facilities including License/Relicense, Exemption, and Qualifying Conduit Facility Determination).

OMB Control Nos.: 1902-0058 (FERC-500) and 1902-0115 (FERC-505).

Type of Request: Extension of currently approved information collections.

Abstract: Part I of the Federal Power Act (FPA) ¹ authorizes the Commission to grant hydropower licenses and exemptions to citizens of the United States, or to any corporation organized under the laws of United States or any State thereof, or to any State or municipality. Holders of such licenses and exemptions construct, operate, and maintain dams, water conduits, reservoirs, power houses, transmission lines, or other project works necessary or convenient for the development and improvement of navigation and for the development, transmission, and utilization of power across, along, from, or in any of the streams or other bodies of water over which Congress has jurisdiction. This jurisdiction stems from Congressional authority to regulate commerce with foreign nations and among the several States, or upon any part of the public lands and reservations of the United States.

¹ 16 U.S.C. 791a-823g.

FERC-500 and FERC-505 comprise applications and other information collection activities implemented under numerous regulations. Some of the regulations are relevant to both FERC-500 and FERC-505, and others are relevant only to FERC-500 or FERC-505. Effective October 4, 2021,² information collection activities within FERC-500 are for projects with an installed capacity of more than 10 MW. Information collection activities within FERC-505 are for other smaller projects. The applicability and required contents of each activity are listed at the pairs of regulations listed in the following table:

² Before October 4, 2021, FERC-500 applied only to projects with an installed capacity of more than 5 MW. On August 5, 2021, the Commission published a final rule that affected the paperwork burdens of FERC-500 by changing the regulatory threshold for certain licensing requirements from 5 MW to 10 MW. As a result, the regulatory threshold for FERC-500 is now projects with an installed capacity of more than 10 MW. See Final Rule, Docket RM20-21-000, 86 FR 42710 (Aug. 5, 2021).

Title | 18 CFR cites | FERC-500 | FERC-505
Application for License for Major ³ Unconstructed Project and Major Modified Project | 4.40 and 4.41 | Yes | Yes
Application for License for Major Project—Existing Dam | 4.50 and 4.51 | Yes | Yes
Application for License for Minor ⁴ Water Power Projects and Major Water Power Projects More Than 10 Megawatts | 4.60 and 4.61 | No | Yes
Application for License for Transmission Line Only | 4.70 and 4.71 | Yes | Yes
Exemption of Small Conduit Hydroelectric Facilities | 4.90 and 4.92 | No | Yes
Exemption of Small Hydroelectric Power Projects of 10 Megawatts or Less | 4.101 and 4.107 | No | Yes
Application for Amendment of License | 4.200 and 4.201 | Yes | Yes
Notice of Intent to Construct Qualifying Conduit Hydropower Facilities | 4.400 and 4.401 | No | Yes
Application Under the Integrated Licensing Process | 5.1 and 5.18 | No | Yes

³ As defined at 18 CFR 4.30(b)(14) through 4.30(b)(16), a “major” project has a total installed generating capacity of more than 1.5 MW.

⁴ As defined at 18 CFR 4.30(b)(17), a “minor” project has a total installed generating capacity of 1.5 MW or less.

Each of the “contents” regulations listed above requires information that assists the Commission in identifying the respondent and the type of proposed project. In addition, certain types of applications must include all ⁵ or some ⁶ of the following exhibits:

⁵ The following regulations require Exhibits A through G: 18 CFR 4.41, 4.51, 4.61, and 4.71.

⁶ The following regulations do not require Exhibits B, C, and D: 18 CFR 4.92 and 4.107. The regulations at 18 CFR 4.201 and 5.18 pertain to several types of applications and projects. The exhibits required by those regulations vary, depending on the type of application.

• Exhibit A is a description of the project.

• Exhibit B is a statement of project operation and resource utilization.

• Exhibit C is a proposed construction schedule for the project.

• Exhibit D is a statement of project costs and financing.

• Exhibit E is an environmental report.

• Exhibit F consists of general design drawings of the principal project works described under Exhibit A and supporting information used as the basis of design.

• Exhibit G is a map of the project.

No exhibits are required in a Notice of Intent to Construct Qualifying Conduit Hydropower Facilities under 18 CFR 4.401. However, the Notice of Intent must include:

• Statements that the proposed project will use the hydroelectric potential of a non-federally owned conduit and that the proposed facility has not been licensed or exempted from the licensing requirements and Part I of the FPA;

• A description of the proposed facility;

• Project drawings;

• If applicable, the preliminary permit number for the proposed facility; and

• Verification in accordance with 18 CFR 4.401(g).

In addition to the reporting requirements described above, FERC-500 and FERC-505 also contain requirements for those entities who ultimately receive a FERC license or exemption. Both information collections include an activity related to recreation signage (18 CFR 8.1 and 8.2), which is used to inform the public of appropriate uses at the project. FERC-500 includes an annual conveyance report (18 CFR 141.15), which must be submitted only if a conveyance of easements or rights-of-way across project lands, or a lease of project lands, has occurred in the previous year.

Types of Respondents: Entities requesting Licenses, Relicenses, Exemptions, or Qualifying Conduit Facility Determinations, and certain entities in receipt of Commission Licenses and Exemptions.

Estimate of Annual Burden: For FERC-500, the Commission estimates 487 responses, 320,962 hours, and $27,923,694 annually. For FERC-505, the Commission estimates 324 responses, 24,555 hours, and $2,136,285 annually. These burdens are itemized in detail in the following table:

Type of response | Number of respondents and responses ⁷ | Average burden & cost ⁸ per response | Average annual burden hours & total annual cost (Column B × Column C)
A. | B. | C. | D.
FERC-500, Application for License/Relicense for Water Projects with Greater than 10 MW Capacity ⁹ | 9 | 35,602.55 hrs.; $3,097,421.85 | 320,422.95 hrs.; $27,876,796.65.
FERC-500, Request for Authorization to Use Expedited Licensing Process | 5 | 40 hrs.; $3,480 | 200 hrs.; $17,400.
FERC-500, Annual Conveyance Reports | 41 | 3 hrs.; $261 | 123 hrs.; $10,701
FERC-500, Recreation Posting | 432 | 0.5 hr.; $43.50 | 216 hrs.; $18,792.
Subtotals for FERC-500 | 487 | N/A | 320,961.95 hrs.; $27,923,689.65.
FERC-505, for Small Hydropower Projects and Conduit Facilities including License/Relicense, Exemption, and Qualifying Conduit Facility Determinations | 32 | 756.59 hrs.; $65,823.33 | 24,210.88 hrs.; $2,106,346.56.
FERC-505, Request for Authorization to Use Expedited Licensing Process | 5 | 40 hrs.; $3,480 | 200 hrs.; $17,400.
FERC-505, Recreation Posting | 287 | 0.5 hr.; $43.50 | 143.5 hrs.; $12,484.50.
Sub-Totals for FERC-505 | 324 | N/A | 24,554.38 hrs.; $2,136,231.06.
Totals | 811 | N/A | 345,516.33 hrs.; $30,068,620.71.

⁷ There is one response per respondent for each activity in this information collection.

⁸ Commission staff estimates that the average industry hour4ly cost for this information collection is approximated by the current FERC 2021 average hourly costs for wages and benefits, i.e., $87.00/hour.

⁹ The previously reported 33 responses associated with Comprehensive Plans were incorrect and not consistent in how we have approached the number of respondents for this Information Collection. As a result, the total number of hours associated with the Comprehensive Plans requirement was moved to the total number of hours associated with the application process. The Commission does not break down pieces of this process (as it is all considered one application) and so this edit was made for consistency across the information collection.

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 22, 2021.
Kimberly D. Bose,
Secretary.

[FR Doc. 2021-23481 Filed 10-27-21; 8:45 am]

BILLING CODE 6717-01-P